DEPARTMENT OF TRANSPORTATION

Federal Motor Carrier Safety Administration

[Docket No. FMCSA-2006-26367]

Motor Carrier Safety Advisory Committee (MCSAC): Public Meeting

AGENCY: Federal Motor Carrier Safety Administration (FMCSA), DOT.

ACTION: Notice of meeting.

SUMMARY: FMCSA announces that its MCSAC will meet on Monday and Tuesday, March 30-31, 2015. The MCSAC will meet to discuss and analyze data to support the potential benefits and feasibility of voluntary compliance and ways to credit carriers and drivers who initiate and establish programs that promote safety beyond the standards established in FMCSA regulations. The meeting will be open to the public for its entirety with a public comment period at the end of each day.

Times and Dates: The meeting will be held Monday—Tuesday, March 30-31, 2015, from 9 a.m. to 4:30 p.m., Eastern Daylight Time (EDT), at the Hyatt Regency Crystal City, 2799 Jefferson Davis Highway, Arlington, VA 22202, (703) 418-1234. Copies of the MCSAC Task Statement and an agenda for the entire meeting will be made available in advance of the meeting at http://mcsac.fmcsa.dot.gov.

FOR FURTHER INFORMATION CONTACT: Ms. Shannon L. Watson, Senior Policy Advisor, Federal Motor Carrier Safety Administration, U.S. Department of Transportation, 1200 New Jersey Avenue SE., Washington, DC 20590, (202) 385-2395, mcsac@dot.gov.

Services for Individuals with Disabilities: For information on facilities or services for individuals with disabilities or to request special assistance at the meeting, please contact Mr. Eran Segev at (617) 494-3174 or eran.segev@dot.gov by Wednesday, March 25, 2015.

SUPPLEMENTARY INFORMATION:

I. Background

MCSAC was established to provide FMCSA with advice and recommendations on motor carrier safety programs and motor carrier safety regulations. MCSAC is composed of up to 20 voting representatives from safety advocacy, safety enforcement, labor, and industry stakeholders of motor carrier safety. The diversity of the Committee ensures the requisite range of views and expertise necessary to discharge its responsibilities. The Committee operates as a discretionary committee under the authority of the U.S. Department of Transportation (DOT), established in accordance with the provisions of the Federal Advisory Committee Act (FACA), as amended, 5 U.S.C. App. 2. See FMCSA's MCSAC Web site for additional information about the committee's activities at http://mcsac.fmcsa.dot.gov/.

Voluntary Compliance Task

The truck and motorcoach industries and the DOT have invested significant resources to research, develop, and test strategies and technologies to reduce truck and bus crashes. In September 2014, the Commercial Vehicle Safety Alliance submitted a request to FMCSA to consider initiating a pilot program to investigate the benefits and feasibility of voluntary compliance. Citing research that has been underway for several years, the Agency established an Alternative Compliance initiative the goal of which is to analyze the concept and gather data to support how this concept might be developed and implemented. The Agency will request that the MCSAC, with its collective expertise on transportation safety, identify options for the motor carrier safety community to promote programs that could improve safety beyond the standards established in FMCSA regulations.

II. Meeting Participation

Oral comments from the public will be heard during the last half-hour of the meetings each day. Should all public comments be exhausted prior to the end of the specified period, the comment period will close. Members of the public may submit written comments on the topics to be considered during the meeting by Wednesday, March 25, 2015, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: March 11, 2015.
Larry W. Minor,
Associate Administrator for Policy.

[FR Doc. 2015-05940 Filed 3-13-15; 8:45 am]

BILLING CODE 4910-EX-P